DEPARTMENT OF DEFENSE

Defense Acquisition Regulations System

[Docket Number DARS-2023-0027; OMB Control Number 0704-0332]

Information Collection Requirement; DoD Pilot Mentor-Protégé Program

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0332 through November 30, 2023. DoD proposes that OMB approve an extension of the information collection requirement, to expire three years after the approval date.

DATES: DoD will consider all comments received by September 25, 2023.

ADDRESSES: You may submit comments, identified by OMB Control Number 0704-0332, using any of the following methods:

○ Federal eRulemaking Portal: https://www.regulations.gov. Follow the instructions for submitting comments.

○ Email: osd.dfars@mail.mil. Include OMB Control Number 0704-0332 in the subject line of the message.

Comments received generally will be posted without change to https://www.regulations.gov, including any personal information provided.

FOR FURTHER INFORMATION CONTACT: Ms. Jeanette Snyder, 703-508-7524.

SUPPLEMENTARY INFORMATION:

Title and OMB Number: Defense Federal Acquisition Regulation Supplement (DFARS) Appendix I; OMB Control Number 0704-0332.

Type of Request: Extension.

Affected Public: Businesses or other for-profit and not-for-profit institutions.

Respondent's Obligation: Required to obtain or retain benefits.

Frequency: On occasion.

Number of Respondents: 105.

Responses per Respondent: 2, approximately.

Annual Responses: 212.

Average Burden per Response: 2.41 hours, approximately.

Annual Burden Hours: 512.

Needs and Uses: Section 831 of the National Defense Authorization Act (NDAA) for Fiscal Year (FY) 1991(Pub. L. 101-510, 10 U.S.C. 2302 Note, redesignated as 10 U.S.C. 4902) required DoD to establish the DoD Pilot Mentor-Protégé Program (the “Program”). Congress requires DoD to collect certain information from program participants in section 861, paragraph (b)(2), of Public Law 114-92. Thus, the need for this information collection is to comply with existing laws. DoD has incorporated these information collection requirements into the DFARS in section I-112 of Appendix I. Program participants agree to comply with these information collection requirements when they execute their mentor-protégé agreements, receiving the program's benefits in consideration.

This information is necessary to ensure that participants are fulfilling their obligations under the mentor-protégé agreements and furthering the purpose of the Mentor-Protégé Program as required by section 18(d)(7) of the Small Business Act (15 U.S.C. 637(d)(7). In accordance with 10 U.S.C. 4902, DoD uses the information to decide whether to approve continuation of the agreement. In addition, the information is necessary for program managers to direct developmental assistance to the most appropriate small business concerns and to ensure the program meets the Congressionally-mandated goal of enhancing the defense industrial base.

Jennifer D. Johnson,
Editor/Publisher, Defense Acquisition Regulations System.

[FR Doc. 2023-15839 Filed 7-25-23; 8:45 am]

BILLING CODE 5001-06-P